DEPARTMENT OF STATE

[Public Notice 10265]

Secretary of State's Determination Under the International Religious Freedom Act of 1998

The Secretary of State's designation of “countries of particular concern” for religious freedom violations. Pursuant to Section 408(a) of the International Religious Freedom Act of 1998 (Pub. L. 105-292), as amended (the Act), notice is hereby given that, on December 22, 2017, the Secretary of State, under authority delegated by the President, has designated each of the following as a “country of particular concern” (CPC) under section 402(b) of the Act, for having engaged in or tolerated particularly severe violations of religious freedom: Burma, China, Eritrea, Iran, the Democratic People's Republic of Korea, Saudi Arabia, Sudan, Tajikistan, Turkmenistan, and Uzbekistan. The Secretary simultaneously designated the following Presidential Actions for these CPCs:

For Burma, the existing ongoing restrictions referenced in 22 CFR 126.1, pursuant to section 402(c)(5) of the Act;

For China, the existing ongoing restriction on exports to China of crime control and detection instruments and equipment, under the Foreign Relations Authorization Act of 1990 and 1991 (Pub. L. 101-246), pursuant to section 402(c)(5) of the Act;

For Eritrea, the existing ongoing restrictions referenced in 22 CFR 126.1, pursuant to section 402(c)(5) of the Act;

For Iran, the existing ongoing travel restrictions in section 221(c) of the Iran Threat Reduction and Syria Human Rights Act of 2012 (TRA) for individuals identified under section 221(a)(1)(C) of the TRA in connection with the commission of serious human rights abuses, pursuant to section 402(c)(5) of the Act;

For the Democratic People's Republic of Korea, the existing ongoing restrictions to which the Democratic People's Republic of Korea is subject, pursuant to sections 402 and 409 of the Trade Act of 1974 (the Jackson-Vanik Amendment), pursuant to section 402(c)(5) of the Act;

For Saudi Arabia, a waiver as required in the “important national interest of the United States,” pursuant to section 407 of the Act;

For Sudan, the restriction in the annual Department of State, Foreign Operations, and Related Programs Appropriations Act on making certain appropriated funds available for assistance to the Government of Sudan, currently set forth in section 7042(j) of the Department of State, Foreign Operations, and Related Programs Appropriations Act, 2015 (Div. K, Pub. L. 114-113), and any provision of law that is the same or substantially the same as this provision, pursuant to section 402(c)(5) of the Act;

For Tajikistan, a waiver as required in the “important national interest of the United States,” pursuant to section 407 of the Act;

For Turkmenistan, a waiver as required in the “important national interest of the United States,” pursuant to section 407 of the Act;

For Uzbekistan, a waiver as required in the “important national interest of the United States,” pursuant to section 407 of the Act.

In addition, the Secretary of State has designated the following country as a “special watch list” country for severe violations of religious freedom: Pakistan.

FOR FURTHER INFORMATION CONTACT: Benjamin W. Medina, Office of International Religious Freedom, Bureau of Democracy, Human Rights, and Labor, U.S. Department of State, (Phone: (202) 647 3865 or Email: MedinaBW@state.gov).

Daniel L. Nadel,
Director, Office of International Religious Freedom, Department of State.

[FR Doc. 2018-00333 Filed 1-10-18; 8:45 am]

BILLING CODE 4710-18-P